GENERAL SERVICES ADMINISTRATION

41 CFR Parts 102-117 and 102-118

[FMR Amendment 2004-02; FMR Case 2004-102-4]

RIN 3090-AH95

Federal Management Regulation; Transportation and Management, Transportation Payment and Audit

AGENCY: Office of Governmentwide Policy, General Services Administration (GSA).

ACTION: Final rule.

SUMMARY: The General Services Administration is amending the Federal Management Regulation (FMR) by adding previously omitted text to address procedures relating to the cash payment of transportation services and unused tickets, and to correct errors. This final rule also clarifies what documentation must be submitted for payment of transportation services and updates a web address.

DATES: Effective Date: September 24, 2004.

FOR FURTHER INFORMATION CONTACT: The Regulatory Secretariat, Room 4035, GS Building, Washington, DC, 20405, (202) 208-7312, for information pertaining to status or publication schedules. For clarification of content, contact Ms. Elizabeth Allison, Office of Governmentwide Policy, Transportation Management Division at (202) 219-1729 or e-mail at elizabeth.allison@gsa.gov. Please cite FMR case 2004-102-4, Amendment 2004-02.

SUPPLEMENTARY INFORMATION:

A. Background

A final rule to transfer policy and regulatory requirements for transportation payment and audit from the Federal Property Management Regulations (FPMR) to the Federal Management Regulation (FMR) was published in the Federal Register at 65 FR 24568, April 26, 2000. However, the policies and procedures relating to the cash payment of transportation services and unused tickets were inadvertently omitted during the transfer. This amendment adds and corrects errors to the regulatory text in FMR parts 102-117 and 102-118.

B. Executive Order 12866

The General Services Administration (GSA) has determined that this final rule is not a significant regulatory action for the purposes of Executive Order 12866.

C. Regulatory Flexibility Act

This final rule is not required to be published in the Federal Register for comment. Therefore, the Regulatory Flexibility Act does not apply.

D. Paperwork Reduction Act

The Paperwork Reduction Act does not apply because the changes to the FMR do not impose information collection requirements that require the approval of the Office of Management and Budget under 44 U.S.C. 3501, et seq.

E. Small Business Regulatory Enforcement Fairness Act

This final rule is exempt from Congressional review under 5 U.S.C. 801 since it relates solely to agency management and personnel.

List of Subjects in 41 CFR Parts 102-117 and 102-118

Accounting, Claims, Government property management, Reporting and recordkeeping requirements, Surplus Government property, Transportation.

Dated: April 26, 2004.
Stephen A. Perry,
Administrator of General Services.

For the reasons set forth in the preamble, GSA amends 41 CFR parts 102-117 and 102-118 as set forth below:

PART 102-117—TRANSPORTATION MANAGEMENT

1. The authority citation for 41 CFR part 102-117 continues to read as follows:

Authority: 31 U.S.C. 3726, 40 U.S.C. 121(c), and 49 U.S.C. 10721, 13712, and 15504.

2. Revise § 102-117.80 to read as follows:

§ 102-117.80 How are rate tenders filed?

(a) The TSP must file an electronic rate tender with your agency. Details of what must be included when submitting electronic tenders is located in § 102-118.260(b) of this subchapter.

(b) You must send two copies of the rate tender to—General Services Administration, Federal Supply Service, Audit Division (FBA), 1800 F Street, NW., Washington, DC 20405, www.gsa.gov/transaudits.

§ 102-117.170 [Amended]

3. Amend § 102-117.170(b) by removing the web address “http://www.fss.gsa.gov/transtrav” and adding “www.gsa.gov/transaudits” in its place.

PART 102-118—TRANSPORTATION PAYMENT AND AUDIT

4. The authority citation for 41 CFR part 102-118 continues to read as follows:

Authority: 31 U.S.C. 3726, 40 U.S.C. 121(c), and 49 U.S.C. 10721, 13712, and 15504.

5. Amend § 102-118.35 by revising the definition “Agency” and adding the definition of “Cash” to read as follows:

§ 102-118.35 What definitions apply to this part?

* * * * *

Agency, as used in this part, means a department, agency, or instrumentality of the United States Government.

* * * * *

Cash means cash, personal checks, personal charge cards, and travelers checks. Cash may only be used to pay for transportation expenses in extremely limited cases where government payment mechanisms are not available or acceptable.

* * * * *

6. Amend § 102-118.40 by revising paragraph (a) and the web address at the end of paragraph (b) to read as follows:

§ 102-118.40 How does my agency order transportation and transportation services?

* * * * *

(a) Transportation of freight and household goods and related transportation services (e.g., packing, storage) with a Government contractor-issued charge card, purchase order (or electronic equivalent), or a Government bill of lading for international shipments (including domestic overseas shipments). In extremely limited cases, cash can be used where government payment mechanisms are not available or acceptable.

(b) * * * www.gsa.gov/transaudits.

7. Revise § 102-118.60 to read as follows:

§ 102-118.60 To what extent must my agency use electronic commerce?

Your agency must use electronic commerce in all areas of your transportation program. This includes the use of electronic systems and forms for ordering, receiving bills and paying for transportation and transportation services.

8. Add §§ 102-118.91 and 102-118.92 to read as follows:

§ 102-118.91 May my agency authorize the use of cash?

Yes, in limited circumstances, a Government employee can use cash where government payment mechanisms are not available or acceptable.

§ 102-118.92 How does my agency handle receipts, tickets or other records of cash payments?

Your agency must ensure that its employees keep the original receipts for transportation purchases over $75.00 made with cash. If it is impractical to furnish receipts in any instance as required by this subtitle, the failure to do so must be fully explained on the travel voucher. Mere inconvenience in the matter of taking receipts will not be considered. These receipts must be saved for a possible postpayment audit by the GSA Audit Division. If your agency requires the filing of paper receipts, then you must do so. For transportation purchases over $75.00, your agency must ensure that copies of all original papers are retained at your agency. Copies of tickets from a TSP must be sent to—General Services Administration, Federal Supply Service, Audit Division (FBA), 1800 F Street, NW., Washington, DC 20405, www.gsa.gov/transaudits.

9. Amend § 102-118.140 by revising paragraph (a) to read as follows:

§ 102-118.140 What are the major mandatory terms and conditions governing the use of GBLs and bills of lading?

* * * * *

(a) Unless otherwise permitted by statute and approved by the agency, the TSP may not demand prepayment or collect charges from the consignee. The TSP, providing service under the bill of lading, must present a legible copy of the bill of lading or an original, properly certified GBL attached to Standard Form (SF) 1113, Public Voucher for Transportation Charges, to the paying office for payment;

* * * * *

10. Revise § 102-118.175 to read as follows:

§ 102-118.175 Must my agency prepare for GBL retirement?

Yes, your agency must prepare for retirement of the paper GBL. Effective September 30, 2001, your agency must have phased out use of Standard Form (SF) 1103, Government Bill of Lading, and OF 1203, Privately Owned Personal Property Government Bill of Lading (PPGBL) for domestic shipments. Effective September 30, 2001, your agency may use the GBL or PPGBL solely for international shipments (including domestic overseas shipments).

11. Add § 102-118.196 to read as follows:

§ 102-118.196 What does the TSP do with unused tickets (E-ticket or paper ticket)?

The TSP must refund the value of the unused tickets (after expiration) to the GSA Audit Division if no Redemption of Unused Tickets (SF 1170) is received. TSPs are required to make such refunds within 90 days after the expiration date. The ticket number and the amount being refunded must be included in addition to all information pertinent to the refund, including the GTR numbers if applicable. Additional information is in the Government Passenger Transportation Handbook. Refund checks are to made payable to the U.S. Treasury and sent to—General Services Administration, Federal Supply Service, Audit Division (FBA), 1800 F Street, NW., Washington, DC 20405, www.gsa.gov/transaudits.

12. Amend § 102-118.205 by revising the heading to read as follows:

§ 102-118.205 May my agency pay a subcontractor or agent functioning as a warehouseman for the TSP providing service under the bill of lading?

* * * * *

13. Revise § 102-118.260 to read as follows:

§ 102-118.260 Must my agency send all quotations, tenders, or contracts with a TSP to GSA?

(a) Yes, your agency must send copies of each quotation, tender, or contract of special rates, fares, charges, or concessions with TSPs including those authorized by 49 U.S.C. 10721 and 13712, upon execution to—General Services Administration, Federal Supply Service, Audit Division (FBA), 1800 F Street, NW., Washington, DC 20405, www.gsa.gov/transaudits.

(b) Tenders must be submitted electronically, following the instructions provided by the requesting agency. The following information must be submitted with the tender:

(1) Issuing TSP, Bureau, Agency or Conference.

(2) Tender number.

(3) Standard Carrier Alpha Code (SCAC).

(4) TSP Tax Identification Number (TIN).

(5) Issue date.

(6) Effective date.

(7) Expiration date.

(8) Origin and destination.

(9) Freight Classification and/or commodity description (including origin and destination).

(10) Rate or charge for line haul rates.

(11) Minimum weights.

(12) Route(s).

(13) Accessorial services description(s) with rate or charge and governing publication.

(14) TSP operating authority.

(c) The TSP must include a statement that the TSP will adhere and agree to the following general terms and conditions. The services provided in this tender will be performed in accordance with applicable Federal, State and municipal laws and regulations, including Federal Management Regulation parts 102-117 and 102-118 (41 CFR parts 102-117 and 102-118), and the TSP(s) hold(s) the required operating authority to transport the commodity from, to, or between the places specified in the authorized certificates, permits or temporary operating authorities.

(d) The TSP shall bill the United States Government on Standard Form (SF) 1113, Public Voucher for Transportation Charges, appropriately completed and supported. The TSP(s) will send bills to the “Bill Charges To” address on the face of the bill of lading or agency-ordering document.

(e) The Optional Form (OF) 280, Uniform Tender of Rates and/or Charges for Transportation Services, includes all the provisions of paragraph (c) of this section and is another option to file a tender with the Government.

14. Revise § 102-118.275 to read as follows:

§ 102-118.275 What must my agency consider when designing and implementing a prepayment audit program?

(a) As shown in § 102-118.45, the manner in which your agency orders transportation services determines how and by whom the bill for those services will be presented. Each method of ordering transportation and transportation services may require a different kind of prepayment audit.

Your agency's prepayment audit program must consider all of the methods that you use to order and pay for transportation services. With each method of ordering transportation services, your agency should ensure that each TSP bill or employee travel voucher contains enough information for the prepayment audit to determine which contract or rate tender is used and that the type and quantity of any additional services are clearly delineated.

(b) For transportation payments made through cost reimbursable contracts, the agency must include a statement in the contract that the contractor shall submit to the address identified for prepayment audit, transportation documents which show that the United States will assume freight charges that were paid by the contractor.

(c) Cost reimbursable contractors shall only submit for audit bills of lading with freight shipment charges exceeding $100.00. Bills under $100.00 shall be retained on-site by the contractor and made available for on-site audits.

15. Amend § 102-118.330 by revising paragraph (d) to read as follows:

§ 102-118.330 What are the elements of an acceptable prepayment audit program?

* * * * *

(d) Require your agency's paying office to offset, if directed by GSA's Audit Division, debts from amounts owed to the TSP within the 3 years as per 31 U.S.C. 3726(b);

* * * * *

§§ 102-118.80, 102-118.105, 102-118.110, 102-118.170, 102-118.315, 102-118.320, 102-118.340, 102-118.490, 102-118.500, 102-118.560, 102-118.600, 102-118.630, and 102-118.645 [Amended]

16. Amend §§ 102-118.80, 102-118.105, 102-118.110, 102-118.170, 102-118.315, 102-118.320, 102-118.340, 102-118.490, 102-118.500, 102-118.560, 102-118.600, 102-118.630, and 102-118.645 by removing “http://pub.fss.gsa.gov/transtrav” wherever it appears and adding “www.gsa.gov/transaudits” in its place.

[FR Doc. 04-21419 Filed 9-23-04; 8:45 am]

BILLING CODE 6820-14-P